DEPARTMENT OF ENERGY

Bonneville Power Administration

[BPA File No.: TC-26]

Proposed Modifications to Open Access Transmission Tariff; Public Hearing and Opportunities for Public Review and Comment

AGENCY: Bonneville Power Administration (Bonneville), Department of Energy (DOE).

ACTION: Notice of public hearing and opportunity to review and comment.

SUMMARY: Bonneville is initiating a proceeding pursuant to Bonneville's open access transmission tariff (Tariff) and the Federal Power Act to modify the non-rate terms and conditions for transmission, ancillary, and interconnection services in the Tariff. The proposed modifications will be effective on October 1, 2025. Bonneville has designated this proceeding Docket No. TC-26.

DATES:

Prehearing Conference: The prehearing conference in the TC-26 proceeding will be held on November 15, 2024, at 2:00 p.m. The Addresses section of this notice provides details on participating in the prehearing conference.

Intervention: Petitions to intervene in the TC-26 proceeding must be filed on Bonneville's secure website no later than 4:30 p.m. on December 3, 2024. Part III of this notice, “Public Participation in TC-26,” provides details on requesting access to the secure website and filing a petition to intervene.

Participant Comments: Written comments by non-party participants must be received by December 5, 2024, to be considered in the Hearing Officer's recommended decision and the Administrator's Record of Decision (ROD). See Part III of this notice for more information about submitting participant comments.

ADDRESSES:

Prehearing Conference: The prehearing conference in the TC-26 proceeding will be held in the Bonneville Rates Hearing Room, 1201 NE Lloyd Boulevard, Suite 200, Portland, Oregon 97232. Interested parties may attend in person or participate virtually via WebEx. The WebEx information will be available on Bonneville's TC-26 tariff proceeding web page at https://www.bpa.gov/tc26 or from the Hearing Clerk at TC26clerk@gmail.com.

Intervention: Anyone intending to become a party to the TC-26 tariff proceeding must file a petition to intervene on Bonneville's secure website. Petitions to intervene may be filed beginning on the date of publication of this notice and are due no later than 4:30 p.m. on December 3, 2024. Part III of this notice, “Public Participation in TC-26,” provides details on requesting access to the secure website and filing a petition to intervene.

Participant Comments: Written comments by non-party participants may be submitted through Bonneville's website at www.bpa.gov/comment or by hard copy to: BPA Public Involvement, Bonneville Power Administration, P.O. Box 14428, Portland, Oregon 97293. Part III of this notice, “Public Participation in TC-26,” provides details on submitting participant comments.

FOR FURTHER INFORMATION CONTACT: Elissa Haley, DKS-7, BPA Communications, Bonneville Power Administration, P.O. Box 14428, Portland, Oregon 97293; by phone toll-free at 1-800-622-4519; or by email to enhaley@bpa.gov.

The Hearing Clerk for this proceeding can be reached via email at TC26clerk@gmail.com or via telephone at (503) 479-8506.

Please direct questions regarding Bonneville's secure website to the Hearing Coordinator via email at cwgriffen@bpa.gov or, if the question is time-sensitive, via telephone at (503) 230-5107.

Responsible Official: Brian McConnell, Manager of Transmission Tariff, Rates, and Regulatory Activities, is the official responsible for the development of Bonneville's open access transmission tariff.

SUPPLEMENTARY INFORMATION:

Table of Contents

Part I—Introduction and Procedural Matters

Part II—Scope of TC-26 Tariff Proceeding

Part III—Public Participation in TC-26

Part IV—Summary of Proposed Modifications to Bonneville's Tariff

Part V—Proposed Tariff

Part I—Introduction and Procedural Matters

A. Introduction and Procedural Background

The Bonneville Project Act of 1937, as reaffirmed in the Pacific Northwest Electric Power Planning and Conservation Act, grants the Bonneville Administrator broad authority to enter into contracts upon such terms and conditions and in such manner as the Bonneville Administrator may deem necessary. Bonneville's Tariff provides the generally applicable terms and conditions for transmission and interconnection service across the Federal Columbia River Transmission System (FCRTS). Section 9 of the Tariff provides that the Bonneville Administrator may use the procedures set forth in section 212(i)(2)(A) of the Federal Power Act to establish and modify non-rate terms and conditions of the Tariff. The section 212(i)(2)(A) procedures include giving notice in the Federal Register and conducting a hearing that adheres to the procedural requirements of paragraphs (1) through (3) of section 7(i) of the Northwest Power Act, 16 U.S.C. 839e(i) (the same procedures Bonneville uses to set rates). In accordance with these procedures, the Hearing Officer conducts one or more hearings as expeditiously as practicable to develop a full and complete record. Unless the Hearing Officer becomes unavailable to Bonneville, upon conclusion of the hearing, the Hearing Officer shall make a recommended decision to the Bonneville Administrator, and the Bonneville Administrator then makes a separate and final determination to establish or modify the Tariff terms and conditions (discussed further in Part III, Section C of this notice).

Bonneville's Rules of Procedure govern the TC-26 tariff proceeding. The rules are posted on Bonneville's website at https://www.bpa.gov/energy-and-services/rate-and-tariff-proceedings/rules-of-procedure-revision-process.

B. Proposed Settlement for Modifications to the Tariff

Starting in late August, Bonneville engaged its transmission and interconnection customers and stakeholders in an attempt to reach settlement of the modifications to the Tariff for the TC-26 tariff proceeding. These discussions have resulted in the TC-26 Settlement Agreement, which includes the proposed Tariff modifications Bonneville is proposing to adopt in the TC-26 tariff proceeding, and a BP-26 Partial Rates Settlement Agreement, which includes the terms of the Generator Interconnection Withdrawal Charge that Bonneville is proposing to adopt in the separate Power and Transmission Rate Adjustment hearing (BP-26 proceeding).

On October 1, 2024, Bonneville posted the TC-26 Settlement Agreement and the BP-26 Partial Rates Settlement Agreement on Bonneville's website and set a deadline of October 15, 2024, for customers and stakeholders to inform Bonneville of any objections to the settlement agreements. Bonneville did not receive any objections by the deadline. A summary of Bonneville's proposed Tariff modifications is provided in Part IV of this notice. A link to the TC-26 Settlement Agreement and proposed Tariff are provided in Part V.

The TC-26 Settlement Agreement calls for Bonneville to file a motion with the Hearing Officer to establish a deadline for parties to either object to the proposed settlement or waive the right to contest the settlement. If no parties object to the settlement by the deadline set by the Hearing Officer, Bonneville's motion would request the Hearing Officer to issue a decision recommending the Bonneville Administrator adopt the TC-26 Settlement Agreement. Bonneville intends to file its motion soon after the TC-26 prehearing conference.

If a party objects to the TC-26 Settlement Agreement or objects to the BP-26 Partial Rates Settlement Agreement in the BP-26 proceeding, Bonneville will notify all parties and decide how to proceed.

C. Proposed Procedural Schedule

A proposed schedule for the proceeding is provided below. The proposed schedule assumes there are no objections to the proposed settlement in the TC-26 tariff proceeding. The official schedule will be established by the Hearing Officer and may be amended by the Hearing Officer as needed during the proceeding.

Prehearing Conference—November 15, 2024

BPA Files Initial Proposal—November 22, 2024

Deadline for Petitions to Intervene—December 3, 2024

Deadline for Objections to Settlement Agreement—December 5, 2024

Close of Participant Comments—December 5, 2024

Hearing Officer's Recommended Decision Issued—January 10, 2025

Final ROD—February 26, 2025

D. Ex Parte Communications

Section 1010.5 of the Rules of Procedure prohibits ex parte communications. Ex parte communications include any oral or written communication (1) relevant to the merits of any issue in the proceeding; (2) that is not on the record; and (3) with respect to which reasonable prior notice has not been given. The ex parte rule applies to communications with all Bonneville and DOE employees and contractors, the Hearing Officer, and the Hearing Clerk during the proceeding. Except as provided, any communications with persons covered by the rule regarding the merits of any issue in the proceeding by other Executive Branch agencies, Congress, existing or potential Bonneville customers, nonprofit or public interest groups, or any other non-DOE parties are prohibited. The rule explicitly excludes and does not prohibit communications (1) relating to matters of procedure; (2) otherwise authorized by law or the Rules of Procedure; (3) from or to the Federal Energy Regulatory Commission (Commission); (4) that all litigants agree may be made on an ex parte basis; (5) in the ordinary course of business, about information required to be exchanged under contracts, or in information responding to a Freedom of Information Act request; (6) between the Hearing Officer and Hearing Clerk; (7) in meetings for which prior notice has been given; or (8) otherwise specified in section 1010.5(b) of the Rules of Procedure. The ex parte rule is effective upon publication of this FRN and remains in effect until the Bonneville Administrator's Final ROD is issued.

Part II—Scope of the TC-26 Tariff Proceeding

The TC-26 tariff proceeding involves the proposed modifications to Bonneville's Tariff described in Part IV. This section provides guidance to the Hearing Officer regarding the specific issues that are outside the scope of the TC-26 tariff proceeding. In addition to the issues specifically listed below, any other issue that is not a Tariff term or condition issue is outside the scope of this proceeding.

Bonneville may revise the scope of the proceeding to include new issues that arise as a result of circumstances or events occurring outside the proceeding that are substantially related to the Tariff terms and conditions under consideration in the proceeding. See Rules of Procedure section 1010.4(b)(8)(iii), (iv). If Bonneville revises the scope of the proceeding to include new issues, Bonneville will provide public notice on its website, present testimony or other information regarding such issues, and provide a reasonable opportunity to intervene and respond to Bonneville's testimony or other information. Id.

A. Business Practices

Bonneville's business practices provide implementation details for the Tariff and are outside the scope of the TC-26 tariff proceeding. Bonneville's decisions regarding business practices are determined in other forums and follow the procedures in Bonneville's Business Practice Process. If business practices are developed for the proposed terms and conditions in this proceeding, such development will occur outside the terms and conditions proceeding. Pursuant to section 1010.4(b)(8) of the Rules of Procedure, the Bonneville Administrator directs the Hearing Officer to exclude from the record all argument, testimony, or other evidence that proposes or challenges Bonneville's current and future business practices.

B. Customer-Specific Contracts and Disputes

Contracts and contract disputes between Bonneville and its customers are outside the scope of the TC-26 tariff proceeding. Pursuant to section 1010.4(b)(8) of the Rules of Procedure, the Bonneville Administrator directs the Hearing Officer to exclude from the record all argument, testimony, or other evidence related to contracts and contract disputes of Bonneville customers.

C. Oversupply Management Protocol

The Oversupply Management Protocol (Tariff Attachment P) includes the Tariff requirements and procedures used to moderate total dissolved gas levels in the Columbia River to protect endangered fish and other aquatic species. Bonneville does not propose to modify the terms of the Oversupply Management Protocol in the TC-26 tariff proceeding. Pursuant to section 1010.4(b)(8) of the Rules of Procedure, the Bonneville Administrator directs the Hearing Officer to exclude from the record all argument, testimony, or other evidence related to the terms of the Oversupply Management Protocol (Tariff Attachment P), including whether the Oversupply Management Protocol complies with orders of the Commission; whether Bonneville took all actions to avoid using the Oversupply Management Protocol, including the payment of negative prices to generators outside of Bonneville's balancing authority area; and issues concerning the rates for recovering the costs of the Oversupply Management Protocol.

D. Program Cost Estimates

Bonneville's projections of its program costs and spending levels are not determined in terms and conditions proceedings and are outside the scope of the TC-26 tariff proceeding. These projections are determined by Bonneville in other forums, such as the Integrated Program Review public process, with input from stakeholders. Pursuant to section 1010.4(b)(8) of the Rules of Procedure, the Bonneville Administrator directs the Hearing Officer to exclude from the record all argument, testimony, or other evidence that challenges the appropriateness or reasonableness of the Bonneville Administrator's decisions on costs and spending levels.

E. Rates

Pursuant to Bonneville's statutes, it must set rates to recover costs associated with providing power and transmission services. In addition to and concurrent with this proceeding, Bonneville is holding a separate BP-26 proceeding regarding the proposed fiscal year 2026-2028 power and transmission, ancillary, and control area services rates. Bonneville's decisions regarding rates are outside the scope of the TC-26 tariff proceeding. Pursuant to section 1010.4(b)(8) of the Rules of Procedure, the Bonneville Administrator directs the Hearing Officer to exclude from the record all argument, testimony, or other evidence related to rates, or that challenges the appropriateness or reasonableness of the Bonneville Administrator's decisions on rates or seeks in any way to propose revisions to the rates, including rate schedules, rate schedule provisions, rate designs, rate methodologies, rate forecasts, interest expense and credit, Treasury repayment schedules, non-Federal debt repayment schedules, revenue financing, calculation of depreciation and amortization expense, forecasts of system replacements used in repayment studies, transmission acquisition expenses incurred by Power Services, generation acquisition expenses, minimum required net revenue, increase in, or the use of, financial reserves, and the costs of risk mitigation actions resulting from the expense and revenue uncertainties included in the risk analysis.

In this proceeding, Bonneville is proposing to modify the Tariff terms and conditions to include a “Withdrawal Charge” as discussed in Part IV below. In order to implement the “Withdrawal Charge,” Bonneville is proposing to adopt a general rate schedule provision that establishes the amount of the proposed “Generator Interconnection Withdrawal Charge” and other details about the applicability of the charge in the BP-26 proceeding.

The exclusion in this section does not extend to limited testimony or evidence acknowledging that Bonneville has proposed adoption of “Generator Interconnection Withdrawal Charge” in the BP-26 proceeding.

Part III—Public Participation in TC-26

A. Interventions

Any entity or person intending to become a party in the TC-26 tariff proceeding must file a petition to intervene through Bonneville's secure website, https://proceedings.bpa.gov/. Because Bonneville is introducing a new secure website interface, all prospective users must create a new user account to submit an intervention. The secure website contains a link to the user guide, which provides step-by-step instructions for creating user accounts, submitting filings, and uploading interventions. Please contact the Hearing Coordinator via email at cwgriffen@bpa.gov or, if the question is time-sensitive, via telephone at (503) 230-5107, with any questions regarding the registration and submission process.

All petitions to intervene must be submitted through Bonneville's secure website by the deadline in the procedural schedule adopted by the Hearing Officer. Late interventions are strongly disfavored. Petitions to intervene must conform to the format and content requirements in sections 1010.6 and 1010.11 of Bonneville's Rules of Procedure. Petitions must state the name and address of the entity or person requesting party status and the entity or person's interest in the hearing.

The Hearing Officer will rule on all petitions to intervene. Bonneville customers and affiliated customer groups will be granted intervention based on petitions filed in conformance with the Rules of Procedure. Other petitioners must explain their interests in sufficient detail to permit the Hearing Officer to determine whether the petitioners have a relevant interest in the hearing.

Bonneville or any party may oppose a petition to intervene. The deadline for opposing a timely petition to intervene is two business days after the deadline for filing the petition. Opposition to an untimely petition to intervene must be filed within two business days after service of the petition.

B. Participant Comments

Bonneville distinguishes between “participants in” and “parties to” the TC-26 tariff proceeding. Separate from the formal hearing process, Bonneville will accept written comments, views, opinions, and information from participants who have not intervened in the TC-26 proceeding and been granted “party” status by the Hearing Officer. Participants are not entitled to participate in the prehearing conference; may not cross-examine parties' witnesses, seek discovery, or serve or be served with documents; and are not subject to the same procedural requirements as parties. Bonneville customers that will receive transmission or interconnection service under the terms and conditions of the Tariff, or their affiliated customer groups, may not submit participant comments. Members or employees of organizations that have intervened in the proceeding may submit participant comments as private individuals (that is, not speaking for their organizations), but may not use the comment procedures to address specific issues raised by their intervener organizations.

Written comments by participants must be received by December 5, 2024, to be considered by the Hearing Officer and the Bonneville Administrator. Participants should submit comments through Bonneville's website at www.bpa.gov/comment or in hard copy to: BPA Public Involvement, Bonneville Power Administration, P.O. Box 14428, Portland, Oregon 97293. All comments should contain the designation “TC-26” in the subject line.

C. Developing the Record

The hearing record will include, among other things, the transcripts of the hearing, written evidence and arguments entered into the record by Bonneville and the parties, written comments from participants, and other material accepted into the record by the Hearing Officer. Upon conclusion of the hearing, the Hearing Officer will develop a recommended decision for the Bonneville Administrator. The Hearing Officer's recommended decision must be based on the record and include the Hearing Officer's findings and conclusions, including the reasons or bases thereof, on all material issues of fact, law, or discretion raised by the parties in their initial briefs. The Hearing Officer will review and certify the record to the Bonneville Administrator for final decision.

The Bonneville Administrator will make a final determination establishing or modifying Tariff terms and conditions based on the record, the Hearing Officer's recommended decision, and such other materials and information as may have been submitted to or developed by the Bonneville Administrator. The Final ROD will be made available to all parties.

Part IV—Summary of Proposed Modifications to Bonneville's Tariff

In this proceeding, Bonneville proposes to adopt, effective October 1, 2025, modifications to the non-rate Tariff terms and conditions consistent with the Tariff attached to the TC-26 Settlement Agreement. The TC-26 Settlement Agreement includes (1) changes to section 2 to allow existing firm service transmission customers that requested a term of five years or more to have the right to continue taking transmission service from BPA when the customer's contract expires, rolls over or is renewed; (2) clarifications in section 4 to align with the current Attachment C, Methodology to Assess Available Transfer Capability, in regard to how Bonneville calculates Available Transfer Capability (ATC) and the Total Transfer Capability (TTC) for ATC paths; (3) modifications to Schedule 9E, Generator Imbalance Service, to allow for the recovery of Non-EIM Balancing Costs; (4) updates to the Summer and Non-Summer loss factor percentages in the Network Loss Factors table in Schedule 11; (5) changes to Attachment A, Form of Service Agreement for Firm Point-to-Point Service, to update references to exhibits for consistency within the attachment and to add Exhibit F, Specifications for Conditional Firm Point-to-Point Transmission Service; (6) modifications to Attachment L, Standard Large Generator Interconnection Procedures (LGIP) to establish that interconnection customers may be subject to a Withdrawal Charge if the customer's interconnection request is withdrawn or deemed withdrawn at certain stages of the interconnection process, and to add Appendix 5, Standard Large Generator Interconnection Agreement; (7) modifications to Attachment R, Large Generator Interconnection Transition Process to specify the applicability of Withdrawal Charges to interconnection customers participating in the Transmission Process; (8) the addition of new Attachment S, Transmission Line Ratings; and (9) ministerial edits to Attachments L and R. In addition, separate and apart from this proceeding, Bonneville is proposing adoption of a rate schedule for the Generator Interconnection Withdrawal Charge in the BP-26 proceeding, consistent with both the BP-26 Partial Rates Settlement Agreement and the TC-26 Settlement Agreement. As described previously, the specific Tariff modifications at issue are reflected in the TC-26 Settlement Agreement that was developed in discussions with customers and other stakeholders earlier this year. The proposed Tariff assumes the TC-26 settlement is successful. In the event the TC-26 settlement is unsuccessful, Bonneville will publish a revised Tariff proposal consistent with the procedural schedule established and amended by the Hearing Officer.

Part V—Proposed Tariff

Bonneville's proposed Tariff and the TC-26 Settlement Agreement are part of this notice and available to view and download on Bonneville's website at https://www.bpa.gov/tc26.

Signing Authority

This document of the Department of Energy was signed on October 31, 2024, by John L. Hairston, Administrator and Chief Executive Officer of the Bonneville Power Administration, pursuant to delegated authority from the Secretary of Energy. This document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 7, 2024.
Treena V. Garrett,
Federal Register Liaison Officer, U.S. Department of Energy.

[FR Doc. 2024-26242 Filed 11-12-24; 8:45 am]

BILLING CODE 6450-01-P